COMMODITY FUTURES TRADING COMMISSION

Agency Information Collection Activities: Comment Request—Proposal To Amend Collection 3038-0005: Instructions to CFTC Form CPO-PQR

AGENCY: Commodity Futures Trading Commission.

ACTION: Notice.

SUMMARY: The Commodity Futures Trading Commission (CFTC) is announcing an opportunity for public comment on the proposed amendment to the collection of certain information by the agency. Under the Paperwork Reduction Act (PRA), Federal agencies are required to publish notice in the Federal Register concerning each proposed collection of information, including proposed extension of an existing collection of information, and to allow 60 days for public comment. This notice solicits comments on the proposed amendment of the instructions to CFTC Form CPO-PQR to permit commodity pool operators (CPOs) to use specified alternative accounting principles, standards or practices in presenting and calculating financial information in Form CPO-PQR to the same extent that CPOs are permitted to use such alternative accounting principles, standards or practices pursuant to CFTC Regulation 4.22(d)(2) to present and compute financial statements in pool Annual Reports.

DATES: Comments must be submitted on or before January 24, 2017.

ADDRESSES: You may submit comments, identified by “Form CPO-PQR Instructions,” or “OMB Control No. 3038-0005” by any of the following methods:

• The Agency's Web site, at http://comments.cftc.gov/. Follow the instructions for submitting comments through the Web site.

• Mail: Christopher Kirkpatrick, Secretary of the Commission, Commodity Futures Trading Commission, Three Lafayette Centre, 1155 21st Street NW., Washington, DC 20581.

• Hand Delivery/Courier: Same as Mail above.

• Federal eRulemaking Portal: http://www.regulations.gov/. Follow the instructions for submitting comments through the Portal.

Please submit your comments using only one method.

FOR FURTHER INFORMATION CONTACT: Christopher Cummings, Special Counsel, Division of Swap Dealer and Intermediary Oversight, Commodity Futures Trading Commission, (202) 418-5445; email: ccummings@cftc.gov.

SUPPLEMENTARY INFORMATION: Under the PRA, Federal agencies must obtain approval from the Office of Management and Budget (OMB) for each collection of information they conduct or sponsor. “Collection of Information” is defined in 44 U.S.C. 3502(3) and 5 CFR 1320.3 and includes agency requests or requirements that members of the public submit reports, keep records, or provide information to a third party. Section 3506(c)(2)(A) of the PRA, 44 U.S.C. 3506(c)(2)(A), requires Federal agencies to provide a 60-day notice in the Federal Register concerning each proposed collection of information, including each proposed extension of an existing collection of information, before submitting the collection to OMB for approval. To comply with this requirement, the CFTC is publishing notice of the proposed collection of information listed below.

Title: Rules Relating to the Operations and Activities of Commodity Pool Operators and Commodity trading Advisors and to Monthly Reporting by Futures Commission Merchants (OMB Control No. 3038-0005). This is a request for comment on a proposed amendment to a currently approved information collection.

Abstract: The CFTC has amended Regulation 4.22(d) to permit a CPO that meets certain requirements to present and compute required Annual Reports in accordance with specified accounting principles, standards or practices other than United States generally accepted accounting principles (U.S. GAAP). At the same time, the CFTC amended Regulation 4.27(c)(2) to permit a CPO that claims relief under Regulation 4.22(d) as amended to use the same alternative accounting principles, standards or practices in presenting and computing the financial information that the CPO is required to report on a quarterly basis to the CFTC in Form CPO-PQR. The instructions to Form CPO-PQR, however, specify that all financial information in the form must be presented and computed in accordance with U.S. GAAP. Accordingly, the CFTC is proposing to amend the instructions to Form CPO-PQR to permit use of alternative accounting principles, standards or practices by CPOs that claim relief under Regulation 4.22(d), as amended.

With respect to the collection of information, the CFTC invites comments on whether the proposed amendment to Collection 3038-0005 is necessary for the proper performance of the functions of the CFTC, including whether the information will have a practical use, and whether the proposed amendment will increase the burden on CPOs who are required to file Form CPO-PQR.

All comments must be submitted in English, or if not, accompanied by an English translation. Comments will be posted as received to http://www.cftc.gov. You should submit only information that you wish to make available publicly. If you wish the Commission to consider information that you believe is exempt from disclosure under the Freedom of Information Act, a petition for confidential treatment of the exempt information may be submitted according to the procedures established in § 145.9 of the Commission's regulations.¹

¹ 17 CFR 145.9.

The Commission reserves the right, but shall have no obligation, to review, pre-screen, filter, redact, refuse or remove any or all of your submission from http://www.cftc.gov that it may deem to be inappropriate for publication, such as obscene language. All submissions that have been redacted or removed that contain comments on the merits of the Information Collection Request will be retained in the public comment file and will be considered as required under the Administrative Procedure Act and other applicable laws, and may be accessible under the Freedom of Information Act.

Burden Statement: The CFTC is not revising its estimate of the burden for this collection as a result of the amendment to the instructions to Form CPO-PQR because the requirement to provide the financial information remains substantively unchanged. There are no capital costs or operating and maintenance costs associated with this collection.

(Authority: 44 U.S.C. 3501 et seq.)

Dated: November 21, 2016.
Robert N. Sidman,
Deputy Secretary of the Commission.

[FR Doc. 2016-28389 Filed 11-23-16; 8:45 am]

BILLING CODE 6351-01-P